DEPARTMENT OF ENERGY

Federal Energy Regulatory Commission

[Project No. 12470-001]

City of Broken Bow, OK; Notice Soliciting Scoping Comments

April 25, 2007.

Take notice that the following hydroelectric application has been filed with the Commission and is available for public inspection.

a. Type of Application: Original Major License.

b. Project No.: 12470-001.

c. Date filed: July 26, 2006.

d. Applicant: City of Broken Bow, Oklahoma.

e. Name of Project: Broken Bow Re-Regulation Dam Hydropower Project.

f. Location: On the Mountain Fork River in McCurtain County, Oklahoma. The project would be located at the United States Army Corps of Engineers' (Corps) Broken Bow Re-Regulation Dam and would occupy lands administered by the Corps.

g. Filed Pursuant to: Federal Power Act, 16 U.S.C. 791 (a)—825(r).

h. Applicant Contact: Olen Hill, City Manager, City of Broken Bow, Oklahoma, 210 North Broadway, Broken Bow, Oklahoma 74728; (405) 584-2282.

i. FERC Contact: Peter Leitzke at (202) 502-6059, or peter.leitzke@ferc.gov.

j. Deadline for filing scoping comments: May 25, 2007.

All documents (original and eight copies) should be filed with: Kimberly D. Bose, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “eFiling” link.

k. This application is not ready for environmental analysis at this time.

l. The proposed run-of-river project, using the Corps' existing Broken Bow Re-Regulation Dam and Reservoir, would consist of: (1) Three 93.5-foot-long penstocks through the eastern portion of the re-regulation dam; (2) a 112-foot-wide by 129-foot-long powerhouse containing three turbine-generator units and having a total installed capacity of 4 megawatts; (3) a 170-foot-long tailrace that would return flows to the Mountain Fork River; (4) a 1,891-foot-long, 13.8-kilovolt transmission line; and (5) appurtenant facilities. The project would have an average annual generation of 17,500 megawatt-hours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. You may also register online at http://www.ferc.gov.esubscribenow.htm to be notified via e-mail of new filings and issuances related to this or other pending projects. For assistance, contact FERC Online Support.

o. Scoping Process: The Commission staff intends to prepare a single Environmental Assessment (EA) for the Broken Bow Re-Regulation Dam Hydropower Project in accordance with the National Environmental Policy Act. The EA will consider both site-specific and cumulative environmental impacts and reasonable alternatives to the proposed action.

The Commission staff, agency representatives, and interested members of the public visited the project site and attended project information meetings conducted by the City of Broken Bow in 2001. The City of Broken Bow worked with the resource agencies and members of the public under the Alternative Licensing Process in preparing the license application, including preparation of a Draft Environmental Assessment which was filed as part of the application. Therefore, we do not anticipate at this time that there is adequate justification: (1) To arrange for Commission staff and interested members of the public to visit the project site; or (2) to hold a public meeting near the project site. Instead, we are soliciting comments, recommendations, and information on the Scoping Document (SD) issued on April 24, 2007.

Copies of the SD outlining the subject areas to be addressed in the EA were distributed to the parties on the Commission's mailing list and the applicant's service list. Copies of the SD may be viewed on the web at http://www.ferc.gov using the “eLibrary” link. Enter the docket number excluding the last three digits in the docket number field to access the document. For assistance, call 1-866-208-3676 or for TTY, (202) 502-8659.

Kimberly D. Bose,
Secretary.

[FR Doc. E7-8336 Filed 5-1-07; 8:45 am]

BILLING CODE 6717-01-P